DEPARTMENT OF AGRICULTURE

U.S. Codex Office

Codex Alimentarius Commission: Meeting of the Codex Committee on Fish and Fishery Products

AGENCY: U.S. Codex Office, USDA.

ACTION: Notice of public meeting and request for comments.

SUMMARY: The U.S. Codex Office is sponsoring a public meeting on September 11, 2024. The objective of the public meeting is to provide information and receive public comments on agenda items and draft U.S. positions to be discussed at the 36th Session of the Codex Committee on Fish and Fishery Products (CCFFP) of the Codex Alimentarius Commission (CAC). The 36th Session of the CCFFP will be held through correspondence, from October 7-11 and 17, 2024. The U.S. Manager for Codex Alimentarius and the Under Secretary for Trade and Foreign Agricultural Affairs recognize the importance of providing interested parties the opportunity to obtain background information on the 36th Session of the CCFFP and to address items on the agenda.

DATES: The public meeting is scheduled for September 11, 2024, from 2-3 p.m. ET.

ADDRESSES: The public meeting will take place via Video Teleconference only. Documents related to the 36th Session of the CCFFP will be accessible via the internet at the following address: https://www.fao.org/fao-who-codexalimentarius/meetings/detail/de/?meeting=CCFFP&session=36.

Ms. Melissa Abbott, U.S. Delegate to the 36th Session of the CCFFP, invites interested U.S. parties to submit their comments electronically to the following email address: melissa.abbott@fda.hhs.gov.

Registration: Attendees may register to attend the public meeting at the following link: https://www.zoomgov.com/meeting/register/vJIsd-qgqTsiHHGGEd7V1I_Owk1_olTgOh0. After registering, you will receive a confirmation email containing information about joining the meeting.

For further information about the 36th Session of the CCFFP, contact U.S. Delegate, Ms. Melissa Abbott, Center for Food Safety and Applied Nutrition, United States Food and Drug Administration, by email at: melissa.abbott@fda.hhs.gov.or or by phone at (240) 402-1401. For additional information regarding the public meeting, contact the U.S. Codex Office by email at: uscodex@usda.gov.

SUPPLEMENTARY INFORMATION:

Background

The Codex Alimentarius Commission was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Fish and Fishery Products (CCFFP) are:

• To elaborate worldwide standards for fresh, frozen (including quick frozen), or otherwise processed fish, crustaceans, and molluscs.

The CCFFP is hosted by Norway. The United States attends the CCFFP as a member country of Codex.

Issues To Be Discussed at the Public Meeting

The following items from the Provisional Agenda for the 36th Session of the CCFFP will be discussed during the public meeting:

• Matters arising from the Codex Alimentarius Commission and its subsidiary bodies

• Information on activities of the FAO and WHO and other international organizations relevant to the work of CCFFP

• Proposed amendment of the Standard for Canned Sardines and Sardine Type Products (CXS 94-1981)

• Other business

Public Meeting

At the September 11, 2024, public meeting, draft U.S. positions on the agenda items will be described and discussed, and attendees will have the opportunity to pose questions and offer comments. Written comments may be offered at the meeting or sent to Ms. Melissa Abbott, U.S. Delegate to the 36th Session of the CCFFP, at melissa.abbott@fda.hhs.gov. Written comments should state that they relate to activities of the 36th Session of the CCFFP.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on August 6, 2024.
Julie A. Chao,
Deputy U.S. Manager for Codex Alimentarius.

[FR Doc. 2024-17820 Filed 8-9-24; 8:45 am]

BILLING CODE 3420-3F-P